DEPARTMENT OF THE INTERIOR

National Park Service

[NPS-WASO-NAGPRA-19356; PPWOCRADN0-PCU00RP14.R50000]

Notice of Inventory Completion: Thomas Burke Memorial Washington State Museum, University of Washington, Seattle, WA

AGENCY: National Park Service, Interior.

ACTION: Notice.

SUMMARY: The Thomas Burke Memorial Washington State Museum, University of Washington (Burke Museum) has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Burke Museum. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Burke Museum at the address in this notice by November 16, 2015.

ADDRESSES: Peter Lape, Burke Museum, University of Washington, Box 353010, Seattle, WA 98195, telephone (206) 685-3849 x2, email plape@uw.edu.

SUPPLEMENTARY INFORMATION: Notice is here given in accordance with the Native American Graves Protection and Repatriation Act (NAGPRA), 25 U.S.C. 3003, of the completion of an inventory of human remains under the control of the Burke Museum, University of Washington, Seattle, WA. The human remains were removed from Pacific County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Burke Museum professional staff in consultation with representatives of the Confederated Tribes of the Chehalis Reservation, Washington and Shoalwater Bay Indian Tribe of the Shoalwater Bay Indian Reservation (previously listed as the Shoalwater Bay Tribe of the Shoalwater Bay Indian Reservation, Washington), Washington.

History and Description of the Remains

In the late 19th or early 20th century, human remains representing, at minimum, one individual, were removed from near the mouth of the Columbia River in the vicinity of sites 45-PC-25/45-PC-4, a known Chinook village and cemetery in Pacific County, WA. The human remains were removed by the property owner and donated to the University of Washington Anthropology Department in 1959, and subsequently accessioned by the Burke Museum in 1964 (Accn. #1964-146). No known individuals were identified. No associated funerary objects are present.

In 1959 and 1976, human remains representing a minimum of one individual were removed from the Martin Site (45-PC-7), in Pacific County, WA. The human remains excavated in 1959 were removed as part of a University of Washington field school excavation conducted by Robert Kidd and brought to the Burke Museum in the 1960s. The human remains excavated in 1976 were removed as part of an excavation led by Chris Brown of Washington State University. The entire collection from this excavation was transferred to the Burke Museum from Washington State University in 2013. Both the 1959 and 1976 excavations were formally accessioned by the Burke Museum in 2013 (Accn. #2013-163). The human remains from this site were not identified as human during the excavation. Only in 2014 did the Burke Museum identify them as human. No known individuals were identified. No funerary objects are present.

All of the human remains are from sites located in the southwestern part of Pacific County, WA. According to historical and anthropological sources (Kidd, 1967; Mooney, 1896; Ray, 1938; Ruby 1986; Spier, 1936; Suttles 1990), as well as information provided during consultation, this area is within the traditional aboriginal territory of the Lower Chinook people, which included the northern bank of the Columbia River mouth, and lands north along the shore and into Willapa Bay. The people of this area spoke the same Chinook dialect and were linguistically separate from other Chinook who lived farther up the Columbia River (Suttles, 1990). The human remains have been determined to be Native American based on archaeological, geographical and osteological evidence. Sites 45-PC-25/45-PC-4 were identified as a village site and cemetery with pre-historic and historic cultural components by Hudziak and Smith in 1948, and by Robert Cook in 1955. Site 45-PC-7 is a large site dating from 700-1800 years ago. All of these sites exhibit material culture consistent with Chinook culture. Today the Chinook people are members of the Shoalwater Bay Indian Tribe of the Shoalwater Bay Indian Reservation (previously listed as the Shoalwater Bay Tribe of the Shoalwater Bay Indian Reservation, Washington), and the Chinook Indian Tribe, a nonfederally recognized Indian group represented by the Shoalwater Bay Indian Tribe of the Shoalwater Bay Indian Reservation (previously listed as the Shoalwater Bay Tribe of the Shoalwater Bay Indian Reservation, Washington).

Determinations Made by the Burke Museum

Officials of the Burke Museum have determined that:

• Pursuant to 25 U.S.C. 3001(9), the human remains described in this notice represent the physical remains of two individuals of Native American ancestry.

• Pursuant to 25 U.S.C. 3001(2), there is a relationship of shared group identity that can be reasonably traced between the Native American human remains and Shoalwater Bay Tribe of the Shoalwater Bay Indian Reservation, Washington (previously listed as the Shoalwater Bay Tribe of the Shoalwater Bay Indian Reservation, Washington).

Additional Requestors and Disposition

Lineal descendants or representatives of any Indian tribe or Native Hawaiian organization not identified in this notice that wish to request transfer of control of these human remains should submit a written request with information in support of the request to Peter Lape, Burke Museum, University of Washington, Box 353010, Seattle, WA 98195, telephone (206) 685-3849 x2, email plape@uw.edu, by November 16, 2015. After that date, if no additional requestors have come forward, transfer of control of the human remains to the Shoalwater Bay Indian Tribe of the Shoalwater Bay Indian Reservation (previously listed as the Shoalwater Bay Tribe of the Shoalwater Bay Indian Reservation, Washington), Washington, may proceed.

The Burke Museum is responsible for notifying the Confederated Tribes of the Chehalis Reservation, Washington and Shoalwater Bay Indian Tribe of the Shoalwater Bay Indian Reservation (previously listed as the Shoalwater Bay Tribe of the Shoalwater Bay Indian Reservation, Washington), Washington that this notice has been published.

Dated: September 17, 2015.
Melanie O'Brien,
Manager, National NAGPRA Program.

[FR Doc. 2015-26287 Filed 10-14-15; 8:45 am]

BILLING CODE 4312-50-P